SMALL BUSINESS ADMINISTRATION

Public Federal Regulatory Enforcement Fairness Hearing; Region VII Regulatory Fairness Board

The Small Business Administration Region VII Regulatory Fairness Board and the SBA Office of the National Ombudsman will hold a Public Hearing on Thursday, June 24, 2004, at 8:30 a.m. at the State Library—Ola Babcock Miller Building, 1112 East Grand Avenue, Iowa Communications Network Classroom, Room 310, Third Floor, Des Moines, IA 50319 P: (515) 281-4316 with interactive videos—satellite locations at: (1) Fort Dodge National Guard Armory, 1659 Nelson Avenue, Fort Dodge, IA 50501 P: (515) 573-3851, (2) Central Campus Individual Learning Center, 1121 Jackson Street, Sioux City, IA 51105 P: (712) 279-6736, (3) Scott Community College, 500 Belmont Road, Room #210, Bettendorf, IA 52722 P: (563) 441-4137, (4) Kirkwood Community College, 6301 Kirkwood Blvd. WW, Room #203B, Cedar Rapids, IA 52406 P: (319) 398-1248, (5) Iowa Western Community College, 2700 College Road, Room # 3, Council Bluffs, IA 51402 P: (712) 325-3200, to receive comments and testimony from small business owners, small government entities, and small non-profit organizations concerning regulatory enforcement and compliance actions taken by Federal agencies.

Anyone wishing to attend or to make a presentation must contact Dave Lentell in writing or by fax, in order to be put on the agenda. Dave Lentell, Public Affairs Specialist, U.S. Small Business Administration Des Moines District Office, 210 Walnut Street, Room 749, Des Moines, IA 50309, phone (515) 284-4522, fax (515) 284-4572, e-mail: Thomas.lentell@sba.gov.

For more information, see our Web site at http://www.sba.gov/ombudsman.

Dated: June 2, 2004.
Peter Sorum,
Senior Advisor, Office of the National Ombudsman.

[FR Doc. 04-12864 Filed 6-7-04; 8:45 am]

BILLING CODE 8025-01-P